FEDERAL COMMUNICATIONS COMMISSION

47 CFR Part 73

[MB Docket No. 25-156; Report No. 3223; FR ID 289611]

Petition for Reconsideration of Action in Rulemaking Proceeding

AGENCY: Federal Communications Commission.

ACTION: Petition for reconsideration.

SUMMARY: Petition for Partial Reconsideration (Petition) has been filed in the Federal Communications Commission's (Commission) proceeding by M&M Broadcasters, Ltd. (M&M Broadcasters) seeking reconsideration of the addition of FM Channel 285A as a vacant allotment at Adamsville, Texas in the Table of FM Allotments. M&M Broadcasts submits that FM Channel 285A should instead have been substituted for FM Channel 235A as a vacant allotment at Richland Springs, Texas.

DATES: Oppositions to the Petition must be filed on or before April 30, 2025. Replies to oppositions to the Petition must be filed on or before May 12, 2025.

ADDRESSES: Federal Communications Commission, 45 L Street NE, Washington, DC 20554.

FOR FURTHER INFORMATION CONTACT: Rolanda F. Smith, Media Bureau, (202) 418-2054, Rolanda-Faye.Smith@fcc.gov.

SUPPLEMENTARY INFORMATION: This is a summary of the Commission's Public Notice, Report No. 3223, released April 8, 2025. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Amendment of Section 73.202(b), Table of Allotments, FM Broadcast Stations (Various Locations).

Number of Petitions Filed: 1.

Federal Communications Commission.
Katura Jackson,
Federal Register Liaison Officer.

[FR Doc. 2025-06354 Filed 4-14-25; 8:45 am]

BILLING CODE 6712-01-P